DEPARTMENT OF COMMERCE

International Trade Administration

(A-428-840, A-580-860, A-570-920, C-570-921)

Notice of Extension of the Deadline for Determining the Adequacy of the Antidumping Duty Petitions: Lightweight Thermal Paper from Germany, the Republic of Korea, and the People's Republic of China; and the Countervailing Duty Petition: Lightweight Thermal Paper from the People's Republic of China

AGENCY: Import Administration, International Trade Administration, Department of Commerce

EFFECTIVE DATE: October 16, 2007.

FOR FURTHER INFORMATION CONTACT: Minoo Hatten at (202) 482-1690 and Dmitry Vladimirov at (202) 482-0665 (Republic of Korea); Blanche Ziv at (202) 482-4207, Hallie Zink at (202) 482-6907, and Scott Holland at (202) 482-1279 (People's Republic of China), Victoria Cho at (202) 482-5075 and Christopher Hargett at (202) 482-4161 (Germany), AD/CVD Operations, Import Administration, International Trade Administration, U.S. Department of Commerce, 14th Street and Constitution Avenue, NW., Washington, DC 20230.

SUPPLEMENTARY INFORMATION:

EXTENSION OF INITIATION OF INVESTIGATIONS

The Petitions

On September 19, 2007, the Department of Commerce (Department) received antidumping and countervailing duty petitions filed by Appleton Papers, Inc. (petitioner) on behalf of the domestic industry producing lightweight thermal paper. See Antidumping Duty Petitions on Lightweight Thermal Paper from Germany, the Republic of Korea, and the People's Republic of China and Countervailing Duty Petition on Lightweight Thermal Paper from the People's Republic of China (September 19, 2007) (Petitions).

Determination of Industry Support for the Petition

Section 732(b)(1) of the Tariff Act of 1930, as amended (the Act), requires that a petition be filed by or on behalf of the domestic industry. Section 732(c)(4)(A) of the Act provides that the Department's industry support determination be based on whether a minimum percentage of the relevant industry supports the petition. A petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A), or (ii) if there is a large number of producers, determine industry support using a statistically valid sampling method to poll the industry.

Extension of Time

Section 732(c)(1)(A)(ii) of the Act provides that within 20 days of the filing of an antidumping duty petition, the Department will determine, inter alia, whether the petition has been filed by or on behalf of the U.S. industry producing the domestic like product. Section 732(c)(1)(B) of the Act provides that the deadline for the initiation determination, in exceptional circumstances, may be extended by 20 days in any case in which the Department must “poll or otherwise determine support for the petition by the industry.” Because it is not clear from the petition whether the industry support criteria have been met, the Department has determined to extend the time for initiating an investigation in order to poll the domestic industry.

The Department will need additional time to analyze the domestic producers' responses to the Department's request for information. Therefore, it is necessary to extend the deadline determining the adequacy of the petition for a period not to exceed 40 days from the filing of the petition. As a result, the initiation determination will now be due no later than October 29, 2007.

International Trade Commission Notification

The Department will contact the International Trade Commission (ITC) and will make this extension notice available to the ITC.

Dated: October 09, 2007.
Stephen J. Claeys,
Deputy Assistant Secretary for Import Administration.

[FR Doc. E7-20345 Filed 10-15-07; 8:45 am]

BILLING CODE 3510-DS-S